FEDERAL COMMUNICATIONS COMMISSION

47 CFR Part 73

[DA 00-2885; MM Docket No. 98-155; RM-9082; RM-9133]

Radio Broadcasting Services; Alva, Mooreland, Tishomingo, Tuttle and Woodward, OK

AGENCY: Federal Communications Commission.

ACTION: Final rule.

SUMMARY: The Commission, at the request of FM 92 Broadcasters, Inc., allots Channel 283C1 to Mooreland, OK, as the community's first local aural service. This action also denies the request of Ralph Tyler to reallot Channel 259C3 from Tishomingo, OK, to Tuttle, OK, as its first local aural service, modify the license of Station KTSH accordingly, with accommodating changes of channels at Alva and Woodward, Oklahoma. See 63 FR 46979, September 3, 1998. Channel 283C1 can be allotted to Mooreland in compliance with the Commission's minimum distance separation requirements without the imposition of a site restriction, at coordinates 36-26-18 NL; 99-12-18 WL. A filing window for Channel 283C1 at Mooreland will not be opened at this time. Instead, the issue of opening a filing window for this channel will be addressed by the Commission in a subsequent order.

DATES: Effective February 5, 2001.

FOR FURTHER INFORMATION CONTACT: Leslie K. Shapiro, Mass Media Bureau, (202) 418-2180.

SUPPLEMENTARY INFORMATION: This is a synopsis of the Commission's Report and Order, MM Docket No. 98-155, adopted December 13, 2000, and released December 22, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Oklahoma, is amended by adding Mooreland, Channel 283C1.

Federal Communications Commission.
John A. Karousos,
Chief, Allocations Branch, Policy and Rules Division, Mass Media Bureau.

[FR Doc. 00-33212 Filed 12-27-00; 8:45 am]

BILLING CODE 6712-01-P